DEPARTMENT OF ENERGY

Federal Energy Regulatory Commission

[Docket No. PR10-30-002]

EasTrans, LLC; Notice Granting Extension of Time

On December 16, 2011, EasTrans, LLC (EasTrans) filed a request to extend the date for filing its next rate case pursuant to sections 284.224 and 284.123 (2011) of the Commission's regulations.¹ In support of this request, EasTrans states that in Order No. 735, the Commission modified its policy concerning periodic reviews of rates charges by section 311 and Hinshaw pipelines to extend the cycle for such reviews from three to five years.² Therefore, EasTrans requests that the date for its next rate filing be extended to March 31, 2014, which is five years from the date of EasTrans' most recent rate filing with this Commission.

¹ 18 CFR 284.123 and 284.224 (2011).

² Contract Reporting Requirements of Intrastate Natural Gas Companies, Order No. 735, 131 FERC ¶ 61,150 (May 20, 2010).

Upon consideration, notice is hereby given that an extension of time for EasTrans to file its section 284.123 rate petition is granted to and including March 31, 2014.

Dated: January 4, 2012.
Kimberly D. Bose,
Secretary.

[FR Doc. 2012-273 Filed 1-10-12; 8:45 am]

BILLING CODE 6717-01-P